DEPARTMENT OF HEALTH AND HUMAN SERVICES

Health Resources and Services Administration

Agency Information Collection Activities: Submission to OMB for Review and Approval; Public Comment Request; Health Center Patient Survey, OMB No. 0915-0368—Reinstatement

AGENCY: Health Resources and Services Administration (HRSA), Department of Health and Human Services (HHS).

ACTION: Notice.

SUMMARY: In compliance with the Paperwork Reduction Act of 1995, HRSA has submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than January 2, 2020.

ADDRESSES: Submit your comments, including the ICR Title, to the desk officer for HRSA, either by email to OIRA_submission@omb.eop.gov or by fax to 202-395-5806.

FOR FURTHER INFORMATION CONTACT: To request a copy of the clearance requests submitted to OMB for review, email Lisa Wright-Solomon, the HRSA Information Collection Clearance Officer at paperwork@hrsa.gov or call (301) 443-1984.

SUPPLEMENTARY INFORMATION: Information Collection Request Title: Health Center Patient Survey OMB No. 0915-0368—Reinstatement.

Abstract: HRSA supported health centers (those entities funded under section 330 of the Public Health Service (PHS) Act) deliver comprehensive, affordable, quality primary health care to over 28 million patients nationwide, regardless of their ability to pay. Nearly 1,400 health centers operate approximately 12,000 service delivery sites in every U.S. state, the District of Columbia, Puerto Rico, the U.S. Virgin Islands, and the Pacific Basin. In the past, HRSA has conducted the Health Center Patient Survey (HCPS), which surveys patients of HRSA-funded health centers. The HCPS collects information about sociodemographic characteristics, health conditions, health behaviors, access to and utilization of health care services, and satisfaction with health care received at HRSA-funded health centers. The reinstatement of the HCPS will utilize the same modules from the 2014 HCPS (OMB #0915-0368). Overarching changes will streamline the questionnaire to minimize burden, standardize questions with other national surveys to enable comparative analyses with particular focus on HHS and HRSA priority areas (e.g., mental health and substance use). Survey results come from in-person, one-on-one interviews with patients who are selected as nationally representative of the Health Center Program patient population.

A 60-day notice was published in the Federal Register on July 24, 2019, vol. 84, No. 142; pp. 35683-84. There were two public comments.

Need and Proposed Use of the Information: The HCPS is unique because it focuses on comprehensive, nationally representative, individual level data from the perspective of health center patients. By investigating how well HRSA-funded health centers meet health care needs of the medically underserved and how patients perceive their quality of care, the HCPS serves as an empirically based resource to inform HRSA policy, funding, and planning decisions.

HRSA updated this Notice to reflect the following changes since the publication of the 60-day Notice. The number of estimated respondents changed from 9,058 to 9,000. This change came about because of the separation of the cognitive testing package from the national survey package. Based on completing the cognitive testing, the estimated overall burden on survey respondents dropped from 1.25 hours to 1.00 hour. HRSA discontinued use of the term “Grantee” when referring to recipients of HRSA funding; therefore, in its place in the burden table below, the term “Grantee Recruitment” has been changed to “Awardee Recruitment.” HRSA added a Short Blessed Scale to account for the patient's time if they are screened for impairment before or during the survey administration. HRSA utilized The Short Blessed Scale for 0.2 percent of respondents in the 2014 HCPS.

Likely Respondents: Patients at HRSA-supported health centers.

Burden Statement: Burden in this context means the time expended by persons to generate, maintain, retain, disclose or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Awardee Recruitment | 220 | 1 | 220 | 2.00 | 440.00
Site Recruitment and Training | 700 | 1 | 700 | 3.15 | 2,205.00
Patient Screening | 13,120 | 1 | 13,120 | 0.17 | 2,230.40
Patient Screening: Short Blessed Scale | 18 | 1 | 18 | 0.05 | 0.90
Patient Survey | 9,000 | 1 | 9,000 | 1.00 | 9,000.00
Total National Study | 23,058 |  | 23,058 |  | 13,876.30

Maria G. Button,
Director, Executive Secretariat.

[FR Doc. 2019-26027 Filed 11-29-19; 8:45 am]

BILLING CODE 4165-15-P